DEPARTMENT OF ENERGY

Federal Energy Regulatory Commission

Combined Notice of Filings # 1

November 3, 2009.

Take notice that the Commission received the following exempt wholesale generator filings:

Docket Numbers: EG10-5-000.

Applicants: Grant County Wind, LLC.

Description: Self Certification Notice of Exempt Wholesale Generator of Grant County Wind, LLC.

Filed Date: 10/29/2009.

Accession Number: 20091029-5098.

Comment Date: 5 p.m. Eastern Time on Thursday, November 19, 2009.

Take notice that the Commission received the following electric rate filings:

Docket Numbers: ER99-2284-012; ER98-2185-017; ER09-1278-001; ER09-38-002; ER99-1761-008; ER99-1773-012; ER01-1315-008; ER01-2401-014; ER98-2186-018; ER00-1026-019; ER00-33-014; ER01-751-014; ER05-442-006; ER98-2184-017

Applicants: AEE 2 LLC; AES Alamitos, Inc.; AES Huntington Beach, L.L.C.; AES Energy Storage, LLC; AES Eastern Energy, LP; AES Eastern Energy, LP; AES Ironwood LLC; AES Red Oak LLC; AES Armenia Mountain Wind, LLC; Indianapolis Power & Light Company; AES Placerita Inc.; AES Redondo Beach, LLC; Mountain View Power Partners, LLC.

Description: The AES Corporation Quarterly Report of Generation Site Acquisition.

Filed Date: 10/30/2009.

Accession Number: 20091030-5082.

Comment Date: 5 p.m. Eastern Time on Friday, November 20, 2009.

Docket Numbers: ER99-2311-013; ER97-2846-016.

Applicants: Carolina Power & Light Company; Florida Power Corporation.

Description: Carolina Power & Light Co et al. submits notice of change in status in compliance with requirements set forth in Section 35.42 of the regulations.

Filed Date: 10/28/2009.

Accession Number: 20091029-0058.

Comment Date: 5 p.m. Eastern Time on Wednesday, November 18, 2009.

Docket Numbers: ER99-3168-011; ER04-657-012; ER04-659-012; ER04-660-012; ER04-994-007.

Applicants: Astoria Generating Company, LP; Mystic I, LLC; Fore River Development, LLC; Sithe Mystic Development LLC; Sithe Boston Generating, LLC.

Description: Quarterly Report for the Third Quarter of 2009 of Astoria Generating Company, L.P., et al.

Filed Date: 10/29/2009.

Accession Number: 20091029-5094.

Comment Date: 5 p.m. Eastern Time on Thursday, November 19, 2009.

Docket Numbers: ER00-1770-022; ER01-202-011; ER02-453-013; ER07-903-005; ER04-472-010; ER08-1336-003; ER09-1729-001; ER09-886-003; ER96-1361-016; ER98-3096-018; ER98-4138-012; ER99-2781-014; ER05-1054-006.

Applicants: Conectiv Energy Supply, Inc., Conectiv Atlantic Generation, LLC, Conectiv Delmarva Generation, LLC; Potomac Power Resources, Inc.; Conectiv Bethlehem, LLC; Fauquier Landfill Gas, LLC; Bethlehem Renewable Energy, LLC; Energy Systems North East LLC; Conectiv Mid Merit, LLC; Conectiv Vineland Solar, LLC; Atlantic City Electric Company; Pepco Energy Services, Inc.; Potomac Electric Power Company; Delmarva Power & Light Company; Eastern Landfill Gas, LLC.

Description: Change in Status of Conectiv Energy Supply, Inc, et al.

Filed Date: 10/30/2009.

Accession Number: 20091030-5070.

Comment Date: 5 p.m. Eastern Time on Friday, November 20, 2009.

Docket Numbers: ER00-1780-012; ER00-840-013; ER01-137-011; ER01-2641-016; ER01-2690-014; ER01-557-016; ER01-559-016 ; ER01-560-016; ER01-596-010; ER02-1942-013; ER02-2509-011; ER02-553-014; ER02-77-014; ER02-963-014; ER03-720-015; ER05-524-009; ER09-43-003; ER94-389-035; ER98-1767-019; ER99-2992-012; ER99-3165-013.

Applicants: Big Sandy Peaker Plant, LLC, Tenaska Alabama II Partners, L.P., Tenaska Alabama Partners, L.P., Tenaska Georgia Partners, L.P., Tenaska Frontier Partners, Ltd., New Covert Generating Company, LLC, Tenaska Power Services Co., High Desert Power Project, LLC, Wolf Hills Energy, LLC, Tenaska Washington Partners, L.P., Lincoln Generating Facility, LLC, California Electric Marketing, LLC, Crete Energy Venture, LLC, Tenaska Gateway Partners, Ltd., University Park Energy, LLC, New Mexico Electric Marketing, LLC, Alabama Electric Marketing, LLC, Kiowa Power Partners, LLC, Rolling Hills Generating, L.L.C., Tenaska Virginia Partners, L.P., Texas Electric Marketing, LLC.

Description: Alabama Electric Marketing, LLC., et al. Quarterly Report for the Third Quarter of 2009.

Filed Date: 10/29/2009.

Accession Number: 20091029-5101.

Comment Date: 5 p.m. Eastern Time on Thursday, November 19, 2009.

Docket Numbers: ER02-237-015; ER03-1151-008.

Applicants: J. Aron & Company, Power Receivable Finance, LLC.

Description: J. Aron & Company and Power Receivable Finance LLC submits Notice of Change in Status for New Generation Capacity Development.

Filed Date: 10/30/2009.

Accession Number: 20091030-5079.

Comment Date: 5 p.m. Eastern Time on Friday, November 20, 2009.

Docket Numbers: ER03-9-018; ER98-2157-019.

Applicants: Westar Energy, Inc.; Western Resources, Inc.

Description: Quarterly Report regarding Generation Sites of Westar Energy, Inc.

Filed Date: 10/30/2009.

Accession Number: 20091030-5078.

Comment Date: 5 p.m. Eastern Time on Friday, November 20, 2009.

Docket Numbers: ER04-449-020.

Applicants: New York Independent System Operator, Inc.

Description: New York Independent System Operator, Inc et al. submits amendments to the Open Access Transmission Tariff etc.

Filed Date: 10/28/2009.

Accession Number: 20091030-0003.

Comment Date: 5 p.m. Eastern Time on Wednesday, November 18, 2009.

Docket Numbers: ER06-441-005; ER00-1115-011; ER00-3562-012; ER00-38-010; ER01-2688-013; ER01-2887-010; ER01-480-009; ER02-1319-009; ER02-1367-007; ER02-1633-007; ER02-1959-008; ER02-2227-010; ER02-2229-009; ER02-600-011; ER03-1288-006; ER03-209-008; ER03-24-009; ER03-25-006; ER03-341-007; ER03-342-008; ER03-446-008; ER03-49-008; ER03-838-009; ER04-1081-006; ER04-1099-007; ER04-1100-007; ER04-1221-006; ER04-831-008; ER05-67-006; ER05-68-006; ER05-819-006; ER05-820-006; ER06-741-006; ER06-742-006; ER06-749-006; ER06-750-006; ER06-751-007; ER06-752-006; ER06-753-005; ER06-755-006; ER06-756-006; ER07-1335-006; ER09-1084-003; ER09-71-003; ER99-1983-009; ER99-970-010.

Applicants: Auburndale Peaker Energy Center, L.L.C., Bethpage Energy Center 3, LLC, Blue Spruce Energy Center, LLC, Broad River Energy LLC, Calpine Construction Finance Company, LP, Calpine Energy Services, L.P., Calpine Gilroy Cogen, L.P., Calpine Newark, LLC, Calpine Oneta Power, LP, Calpine Philadelphia, Inc, Calpine Power America—CA, LLC, Calpine Power America—OR, LLC, Carville Energy LLC, CES Marketing IX, LLC, CES Marketing V, L.P., CES Marketing X, LLC, Columbia Energy LLC, CPN Bethpage 3RD Turbine, INC, CPN Pryor Funding Corporation, Creed Energy Center, LLC, Decatur Energy Center, LLC, Delta Energy Center, LLC, Geysers Power Company, LLC, Gilroy Energy Center, LLC, Goose Haven Energy Center, LLC, Hermiston Power, LLC, KIAC Partners, Los Esteros Critical Energy Facility LLC, Los Medanos Energy Center LLC, Mankato Energy Center, LLC, Metcalf Energy Center, LLC, Mobile Energy LLC, Morgan Energy Center, LLC, Nissequogue Cogen Partners, Otay Mesa Energy Center, LLC, Pastoria Energy Center, LLC, PCF2, LLC, Pine Bluff Energy, LLC, Power Contract Financing, L.L.C., Riverside Energy Center, LLC, RockGen Energy, LLC, Rocky Mountain Energy Center, LLC, Santa Rosa Energy Center, LLC, South Point Energy Center, LLC, TBG Cogen Partners, Zion Energy LLC.

Description: Quarterly Report for the Third Quarter of 2009 of Auburndale Peaker Energy Center, L.L.C., et al.

Filed Date: 10/30/2009.

Accession Number: 20091030-5081.

Comment Date: 5 p.m. Eastern Time on Friday, November 20, 2009.

Docket Numbers: ER06-615-054.

Applicants: California Independent System Operator Corporation.

Description: The California Independent System Operator Corporation submits informational filing of Third Revised Sheet 639 et al. to FERC Electric Tariff, Fourth Replacement Volume 1 to be effective 11/5/09.

Filed Date: 10/28/2009.

Accession Number: 20091030-0002.

Comment Date: 5 p.m. Eastern Time on Wednesday, November 18, 2009.

Docket Numbers: ER09-556-003; ER08-367-008; ER06-615-054.

Applicants: California Independent System Operator Corporation

Description: The California Independent System Operator Corporation submits informational filing of Third Revised Sheet 639 et al. to FERC Electric Tariff, Fourth Replacement Volume 1 to be effective 11/5/09.

Filed Date: 10/28/2009.

Accession Number: 20091030-0002.

Comment Date: 5 p.m. Eastern Time on Wednesday, November 18, 2009.

Docket Numbers: ER09-1247-004.

Applicants: California Independent System Operator Corporation.

Description: California Independent System Operator Corporation submits Third Substitute Original Sheet 216A et al. to FERC Electric Tariff, Fourth Replacement Volume 1 to be effective 11/1/09.

Filed Date: 10/28/2009.

Accession Number: 20091030-0001.

Comment Date: 5 p.m. Eastern Time on Wednesday, November 18, 2009.

Docket Numbers: ER09-1621-003.

Applicants: Jersey Central Power & Light Co.

Description: Jersey Central Power & Light Company submits the third amendment to the 9/24/09 filing to replace the canceled rate schedule sheet to comply with the requirements of Order 614.

Filed Date: 10/29/2009.

Accession Number: 20091030-0108.

Comment Date: 5 p.m. Eastern Time on Thursday, November 19, 2009.

Docket Numbers: ER10-121-000.

Applicants: Entergy Power, Inc.

Description: Entergy Power Inc submits Notices of Termination.

Filed Date: 10/28/2009

Accession Number: 20091028-0065.

Comment Date: 5 p.m. Eastern Time on Wednesday, November 18, 2009.

Docket Numbers: ER10-126-000.

Applicants: Southwest Power Pool, Inc.

Description: Southwest Power Pool, Inc submits filing for providing for revisions to its Open Access Transmission Tariff.

Filed Date: 10/28/2009.

Accession Number: 20091029-0020.

Comment Date: 5 p.m. Eastern Time on Wednesday, November 18, 2009.

Docket Numbers: ER10-127-000.

Applicants: The United Illuminating Company.

Description: The United Illuminating Company submits Engineering and Procurement Agreement dated 10/1/09 etc.

Filed Date: 10/28/2009.

Accession Number: 20091029-0021.

Comment Date: 5 p.m. Eastern Time on Wednesday, November 18, 2009.

Docket Numbers: ER10-128-000.

Applicants: Midwest Independent Transmission System Operator, Inc.

Description: Midwest Independent Transmission System Operator, Inc submits amendments to Section 38.2.5.g of the Midwest ISO's Open Access Transmission, Energy and Operating Reserve Markets Tariff.

Filed Date: 10/28/2009.

Accession Number: 20091029-0022.

Comment Date: 5 p.m. Eastern Time on Wednesday, November 18, 2009.

Docket Numbers: ER10-135-000.

Applicants: Southern California Edison Company.

Description: Southern California Edison Company submits revisions to its Transmission Owner Tariff, FERC Electric Tariff, Second Revised Volume No 6.

Filed Date: 10/29/2009.

Accession Number: 20091030-0056.

Comment Date: 5 p.m. Eastern Time on Thursday, November 19, 2009.

Docket Numbers: ER10-137-000.

Applicants: Upper Peninsula Power Company.

Description: Upper Peninsula Power Company submits changes in the depreciation rates affecting cost based wholesale rates.

Filed Date: 10/29/2009.

Accession Number: 20091030-0006.

Comment Date: 5 p.m. Eastern Time on Thursday, November 19, 2009.

Docket Numbers: ER10-138-000.

Applicants: Midwest Independent Transmission System Operator, Inc.

Description: Midwest Independent Transmission System Operator, Inc submits notice of termination and consent to termination of the Large Generator Interconnection Agreement with Columbia Community Windpower LLC.

Filed Date: 10/29/2009.

Accession Number: 20091030-0120.

Comment Date: 5 p.m. Eastern Time on Thursday, November 19, 2009.

Docket Numbers: ER10-139-000.

Applicants: Atlantic Path 15, LLC.

Description: Atlantic Path 15, LLC submits revisions to its Transmission Owner Tariff, FERC Electric Tariff First Revised Volume No 1.

Filed Date: 10/29/2009.

Accession Number: 20091030-0119.

Comment Date: 5 p.m. Eastern Time on Thursday, November 19, 2009.

Docket Numbers: ER10-140-000.

Applicants: Entergy Power, LLC.

Description: Entergy Power, LLC submits Rate Schedule No 48.

Filed Date: 10/29/2009.

Accession Number: 20091030-0118.

Comment Date: 5 p.m. Eastern Time on Thursday, November 19, 2009.

Docket Numbers: ER10-141-000; ER10-141-001.

Applicants: RRI Energy Wholesale Generation, LLC.

Description: RRI Energy Wholesale Generation, LLC submits notice of cancellation of the Blackstart Service Agreement between RRI Energy Wholesale Generation, LLC and Commonwealth Edison Company.

Filed Date: 10/29/2009.

Accession Number: 20091030-0117.

Comment Date: 5 p.m. Eastern Time on Thursday, November 19, 2009.

Docket Numbers: ER10-142-000.

Applicants: Entergy Power, Inc.

Description: Entergy Power Inc submits notice of succession et al.

Filed Date: 10/28/2009.

Accession Number: 20091030-0106.

Comment Date: 5 p.m. Eastern Time on Wednesday, November 18, 2009.

Docket Numbers: ER10-143-000.

Applicants: Florida Power & Light Company.

Description: Florida Power & Light Company submits Original Service Agreement No 264 between FPL and the City of Vero Beach.

Filed Date: 10/29/2009.

Accession Number: 20091030-0116.

Comment Date: 5 p.m. Eastern Time on Thursday, November 19, 2009.

Docket Numbers: ER10-144-000.

Applicants: Southwest Power Pool, Inc.

Description: Southwest Power Pool. Inc submits an executed service agreement for Network Integration Transmission Service with the Board of Public Utilities, Springfield, Missouri etc.

Filed Date: 10/29/2009.

Accession Number: 20091030-0115.

Comment Date: 5 p.m. Eastern Time on Thursday, November 19, 2009.

Docket Numbers: ER10-145-000.

Applicants: Southwest Power Pool, Inc.

Description: Southwest Power Pool, Inc. submits revised pages to its Open Access Transmission Tariff etc.

Filed Date: 10/29/2009.

Accession Number: 20091030-0114.

Comment Date: 5 p.m. Eastern Time on Thursday, November 19, 2009.

Docket Numbers: ER10-146-000.

Applicants: Southwest Power Pool, Inc.

Description: Southwest Power Pool, Inc. submits executed Service Agreement for Network Integration Transmission Service between Southwest Power Pool, Inc. as Transmission Provider and Westar Energy as Network Customer, etc.

Filed Date: 10/29/2009.

Accession Number: 20091030-0113.

Comment Date: 5 p.m. Eastern Time on Thursday, November 19, 2009.

Docket Numbers: ER10-147-000.

Applicants: Great River Energy.

Description: Great River Energy et al. submits revised tariff sheets with proposed revisions to the Midwest ISO's Open Access Transmission Energy and Operating Reserve Markets Tariff FERC Electric Tariff, Fourth Revised Volume 1 under ER10-147.

Filed Date: 10/29/2009.

Accession Number: 20091030-0121.

Comment Date: 5 p.m. Eastern Time on Thursday, November 19, 2009.

Docket Numbers: ER10-148-000.

Applicants: New York Independent System Operator, Inc.

Description: New York Independent System Operator, Inc. et al. submit an amended and restated large generator interconnection agreement among New York Independent System Operator, Inc. et al. and request for waiver.

Filed Date: 10/29/2009.

Accession Number: 20091030-0112.

Comment Date: 5 p.m. Eastern Time on Thursday, November 19, 2009.

Docket Numbers: ER10-150-000.

Applicants: ISO New England Inc.

Description: ISO New England Inc. submits Updated Tariff Sheets for Compliance with Order 614.

Filed Date: 10/29/2009.

Accession Number: 20091030-0111.

Comment Date: 5 p.m. Eastern Time on Thursday, November 19, 2009.

Docket Numbers: ER10-152-000.

Applicants: PPL Electric Utilities Corporation.

Description: PPL Electric Utilities Corporation submits revised tariff sheets to the PJM Interconnection, LLC Open Access Transmission Tariff.

Filed Date: 10/29/2009.

Accession Number: 20091030-0123.

Comment Date: 5 p.m. Eastern Time on Thursday, November 19, 2009.

Docket Numbers: ER10-153-000.

Applicants: Niagara Mohawk Power Corporation.

Description: Niagara Mohawk Power Corporation submits for Commission acceptance a 1999 Site Agreement between Niagara Mohawk and Erie Boulevard Hydropower, LP.

Filed Date: 10/29/2009.

Accession Number: 20091030-0122.

Comment Date: 5 p.m. Eastern Time on Thursday, November 19, 2009.

Docket Numbers: ER10-154-000.

Applicants: ISO New England Inc.

Description: ISO New England Inc. submits 5th Revised Sheet 8545 et al. to FERC Electric Tariff 3 from Section IV A of the ISO's Transmission, Markets and Services Tariff in order to collect its administrative costs for CY 2010.

Filed Date: 10/29/2009.

Accession Number: 20091030-0107.

Comment Date: 5 p.m. Eastern Time on Thursday, November 19, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. E9-27299 Filed 11-10-09; 8:45 am]

BILLING CODE 6717-01-P